DEPARTMENT OF THE INTERIOR

National Park Service

36 CFR Part 7

[NPS-NCR-40383; PPNCNCROD0, PPMPSAS1Y.T00000]

RIN 1024-AF06

National Capital Region; America250 Events

AGENCY: National Park Service, Interior.

ACTION: Temporary rule.

SUMMARY: The National Park Service is issuing a temporary amendment to regulations for the National Capital Region. This amendment will temporarily remove barriers to the efforts of executive departments and agencies and the United States Semiquincentennial Commission to appropriately plan, organize, and execute an extraordinary celebration of the 250th Anniversary of American Independence through various events taking place within the Washington, DC region.

DATES: Effective June 17, 2025, through 11:59 p.m. eastern time on December 31, 2026.

FOR FURTHER INFORMATION CONTACT: Jennifer T. Nersesian, Regional Director, National Capital Region, (202) 619-7021, jen_nersesian@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On January 29, 2025, President Trump signed Executive Order 14189, “Celebrating America's 250th Birthday.” This Executive Order announced a national policy to provide a grand celebration worthy of the momentous occasion of the 250th anniversary of American Independence on July 4, 2026. The Executive Order also established a White House Task Force on Celebrating America's 250th Birthday (Task Force 250). Task Force 250 is chaired by the President, vice chaired by the Vice President, and consists of cabinet-level Secretaries, including the Secretary of the Interior, and other officials. An Executive Director is responsible for day-to-day operations of Task Force 250. The Executive Order directs Task Force 250 to coordinate with executive departments and agencies to plan, organize, and execute an extraordinary celebration of the 250th Anniversary of American Independence. The Executive Director is empowered to seek information or advice from such other agencies as Task Force 250 shall direct. Task Force 250 terminates on December 31, 2026, unless extended by the President.

The Executive Order allows the President and the Vice President, as they deem appropriate, to invite the Executive Director of the United States Semiquincentennial Commission (Commission) to provide recommendations and advice to Task Force 250. Further, the Executive Order states that Task Force 250 shall coordinate communications from executive departments and agencies with the Commission. The Commission was established by Congress in the United States Semiquincentennial Commission Act of 2016 (114 Pub. L. 196) for the purpose of planning and orchestrating the 250th anniversary of the signing of the Declaration of Independence. Appointed by the House and Senate leadership of both parties, the nonpartisan Commission is composed of 16 private citizens, 4 U.S. Representatives and 4 Senators, as well as 12 Ex Officio members from all three branches of the Federal Government and its independent agencies.

The celebration of the 250th anniversary of American Independence will consist of numerous events in locations across the nation, collectively referred to as America250 events. Event types include celebrations, ceremonials, ceremonies, commemorations, community events, cultural events, educational events, exhibits, milestones, reenactments, social events, and volunteer and service events. Events will be in-person, virtual, and many will be free. Events are ongoing and many more are planned and will take place leading up to and on July 4, 2026, and then through the end of the Semiquincentennial year.

Several America250 events that take place in and around Washington, DC will be planned, organized, and executed by the Commission and executive departments and agencies of the Federal Government, including, but not limited to, the White House, the U.S. Department of Defense, and the Interior Department. Many of these events will occur on lands administered by the National Park Service (NPS) within the Washington, DC region. The NPS administers iconic monuments, memorials, and other locations within Washington, DC that tell the story of the United States of America by commemorating the people and events that shaped us as a nation. For example, National Mall and Memorial Parks consists of more than 1,000 acres of parkland with many of America's most significant cultural resources, including monuments and memorials that honor the bravery, sacrifices, and beliefs of those who have served their nation, its people, and all humanity.

Due to the nature and location of NPS-administered lands in Washington, DC, the NPS will play a key role in coordinating and carrying out America250 events on lands within its jurisdiction. This includes America250 events that will occur in part on the National Mall on and around July 4, 2026, and will require a significant effort to plan, organize, and execute. The Commission and executive departments and agencies planning, organizing, and executing America250 events on NPS-administered lands need assurance that they will have access to the locations necessary to carry out these events successfully.

NPS regulations for park areas within the Washington, DC region are found in 36 CFR 7.96, National Capital Region. Regulations governing special events are found in paragraph (g) of section 7.96. The term “special events” is defined in paragraph (g)(1)(ii) to include sports events, pageants, celebrations, historical reenactments, regattas, entertainments, exhibitions, parades, fairs, festivals and similar events (including events presented by the NPS), which are not demonstrations and which are engaged in by one or more persons, the conduct of which has the effect, intent or propensity to draw a crowd or onlookers. 36 CFR 7.96(g)(1)(ii). The regulation further clarifies that “special events” do not include casual park use by visitors or tourists which does not have an intent or propensity to attract a crowd or onlookers.

Under this definition, all America250 events planned, organized, and executed by executive departments and agencies or the Commission and taking place on lands administered by the NPS in the Washington, DC region, as described in paragraph (a) of section 7.96, will be “special events.” The regulations in paragraph (g) address various issues related to special events, including permit requirements, permit applications, closed areas, permit processing, permit limitations, permit priority, and permit revocation.

Temporary Rule

This rule exempts America250 events planned, organized, and executed by executive departments and agencies or the Commission from requirements in several of these regulations in order to create efficiencies related to permit processing, event duration and location, priority use of park areas, equipment and structures, and to achieve the goals of Executive Order 14189. Specifically, this rule exempts America250 events planned, organized, and executed by executive departments and agencies or the Commission from requirements that include the following as applied to special events:

• Limitations on the times and dates the Regional Director shall accept permit applications. 36 CFR 7.96(g)(3).

• The prohibition on issuing permits for special events in the White House area. 36 CFR 7.96(g)(3)(i).

• The prohibition on issuing permits for special events within portions of the Washington Monument, Lincoln Memorial, Jefferson Memorial, and Vietnam Veterans Memorial. 36 CFR 7.96(g)(3)(ii).

• The requirements that the NPS process permit applications for special events in order of receipt. 36 CFR 7.96(g)(4)(i).

• The requirement that use of a particular area is allocated in order of receipt of fully executed special event applications. 36 CFR 7.96(g)(4)(i).

• Priority use of particular park areas for specific national celebration events. 36 CFR 7.96(g)(4)(ii) and 36 CFR 7.96(g)(4)(iv).

• Limitations on the maximum duration of special events. 36 CFR 7.96(g)(4)(vi).

• Restrictions on the purposes for using temporary structures, except for the prohibition on the use of temporary structures for living accommodation activities. 36 CFR 7.96(g)(5)(vi).

• Prohibition on structures on the White House sidewalk. 36 CFR 7.96(g)(5)(vi)(A).

• Restrictions on the use of signs or placards. 36 CFR 7.96(g)(5)(vii).

• Restrictions on the placement or storage of parcels, containers, packages, bundles or other property. 36 CFR 7.96(g)(5)(viii).

• Restrictions on the erection, placement or use of structures or signs in Lafayette Park. 36 CFR 7.96(g)(5)(ix).

• Restrictions on the placement of stages and sound amplification equipment at the Vietnam Veterans Memorial. 36 CFR 7.96(g)(5)(x).

• Restrictions on the use of sound amplification equipment on the White House sidewalk. 36 CFR 7.96(g)(5)(xi)(A).

This rule also would allow the Regional Director to exempt America250 events planned, organized, and executed by executive departments and agencies or the Commission from other requirements related to special events in paragraph (g) upon a determination that such exemptions are necessary for the planning, organization, and execution of such events, after consideration of potential impacts to park resources and visitors.

This rule will not have the effect of providing executive departments and agencies exclusive use of all NPS-administered lands within Washington, DC region for the duration of this rule. Areas that are not in use for America250 events planned, organized, and executed by executive departments and agencies or the Commission will be available to the public, according to applicable law, including NPS regulations, and federal administrative policy.

This rule will be effective upon publication in the Federal Register until December 31, 2026, when Task Force 250 terminates. This will allow sufficient time for the planning, organizing, and executing of all America250 events that occur on NPS-administered lands within Washington, DC. After this rule expires on December 31, 2026, NPS regulations in paragraph (g) of 36 CFR 7.96 will revert to their former wording.

Some locations within park areas have already been allocated to permittees who applied for and received special event permits prior to the effective date of this rule. This rule may result in changes to what had been authorized by those permits. The NPS will notify the permittees of such changes and mitigate impacts from those changes to the extent practicable.

Compliance With Other Laws, Executive Orders and Department Policy

Regulatory Planning and Review (Executive Orders 12866 and 14192)

This rule has been determined to be not significant for purposes of Executive Order 12866. This rule is an E.O. 14192 deregulatory action.

Administrative Procedure Act

Task Force 250 has commenced planning festivities and events for America250 that launched on Memorial Day 2025 and will continue through the end of the Semiquincentennial year. On June 14, 2025, the NPS will celebrate the 250th Anniversary of the U.S. Army with a Military Parade and Celebration that will take place on the National Mall in Washington, DC. In accordance with the requirements of the Administrative Procedure Act (5 U.S.C. 553(b)(4)(B)), the NPS has determined that publishing a proposed rule would be impracticable because events are already being planned and organized and must be permitted and executed within a very short time frame to avoid serious disruption in this important national celebration. In addition, the NPS has determined that a public comment period would be contrary to the public interest, including the interests of potential applicants for permits to hold other special events on NPS-administered lands within the National Capital Region. The times and locations available for these events could change as a result of America250 events planned, organized, and executed by executive departments and agencies and the Commission. Early notice will allow potential applicants to understand the rules that will apply to events within the National Capital Region during the effective time period of this rule, and allow them to plan their events with the best available information about the permitting process. The NPS also has determined that delaying the effective date of this rule for thirty days would be impracticable and contrary to the public interest for the reasons stated above. Therefore, under the Administrative Procedure Act (5 U.S.C. 553(d)(3)), the NPS has determined that this temporary rule will be effective on the date published in the Federal Register.

Regulatory Flexibility Act (5 U.S.C. 601 et seq.)

This rule will not have a significant economic effect on a substantial number of small entities under the Regulatory Flexibility Act (5 U.S.C. 601 et seq.).

Congressional Review Act

This rule is not a major rule under 5 U.S.C. 804(2). This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act (2 U.S.C. 1501 et seq.)

This rule does not impose an unfunded mandate on State, local, or Tribal governments or the private sector of more than $100 million per year. The rule does not have a significant or unique effect on State, local or Tribal governments or the private sector. It addresses public use of national park lands and imposes no requirements on other agencies or governments. A statement containing the information required by the Unfunded Mandates Reform Act (2 U.S.C. 1531 et seq.) is not required.

Takings (E.O. 12630)

This rule does not effect a taking of private property or otherwise have takings implications under E.O. 12630. A takings implication assessment is not required.

Federalism (E.O. 13132)

Under the criteria in section 1 of E.O. 13132, the rule does not have sufficient federalism implications to warrant the preparation of a federalism summary impact statement. This rule only affects use of federally administered lands and waters. It has no direct effects on other areas. A federalism summary impact statement is not required.

Civil Justice Reform (E.O. 12988)

This rule complies with the requirements of E.O. 12988. This rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy).

The Department of the Interior strives to strengthen its government-to-government relationship with Indian Tribes through a commitment to consultation with Indian Tribes and recognition of their right to self-governance and Tribal sovereignty. The NPS has evaluated this rule under the criteria in E.O. 13175 and under the Department's Tribal consultation policy and has determined that Tribal consultation is not required because the rule will not have a substantial direct effect on federally recognized Indian Tribes.

Paperwork Reduction Act

This rule does not contain information collection requirements, and a submission to the Office of Management and Budget under the Paperwork Reduction Act is not required. The NPS may not conduct or sponsor and you are not required to respond to a collection of information unless it displays a currently valid OMB control number.

National Environmental Policy Act of 1969 (NEPA)

This rule does not constitute a major Federal action significantly affecting the quality of the human environment. A detailed statement under the NEPA is not required because the rule is covered by a categorical exclusion. 43 CFR 46.210(i). This rule creates exemptions from requirements that apply to permitting America250 special events on NPS-administered lands in Washington, DC. These changes are administrative and procedural in nature because they do not directly authorize any activity to occur in park areas. All America250 events that occur on lands that are subject to the regulations in 36 CFR 7.96 during the effective period of this rule will require a permit that will be subject to the appropriate NEPA process at that time. The NPS also has determined that the rule does not involve any of the extraordinary circumstances listed in 43 CFR 46.215 that would require further analysis under the NEPA.

Effects on the Energy Supply (E.O. 13211)

This rule is not a significant energy action under the definition in E.O. 13211; the rule is not likely to have a significant adverse effect on the supply, distribution, or use of energy, and the rule has not otherwise been designated by the Administrator of Office of Information and Regulatory Affairs as a significant energy action. A statement of energy effects is not required.

List of Subjects in 36 CFR Part 7

District of Columbia, National parks, Reporting and recordkeeping requirements.

In consideration of the foregoing, the National Park Service amends 36 CFR part 7 as set forth below:

PART 7—SPECIAL REGULATIONS, AREAS OF THE NATIONAL PARK SYSTEM

1. The authority citation for part 7 continues to read as follows:

Authority: 54 U.S.C. 100101, 100751, 320102; Sec. 7.96 also issued under D.C. Code 10-137 and D.C. Code 50-2201.07.

2. Amend § 7.96 by adding paragraph (g)(8) to read as follows:

§ 7.96 National Capital Region.

* * * * *

(g) * * *

(8) America250 events. The restrictions, limitations, closures, prohibitions, priority use designations, and other requirements for special events in the paragraphs of this section identified in table 1 of this paragraph (g)(8), as applied to special events, do not apply to the “America250” events, which are those special events planned, organized, and executed by executive departments and agencies or the Semiquincentennial Commission for the celebration of the 250th anniversary of American Independence. The National Park Service Director, or designee, will take necessary steps to ensure priority for America250 events within and relating to special event permitting in the National Capital Region, as the National Capital Region is described in paragraph (a) of this section, under this paragraph (g) and related authorities, as well as priority for use of a particular park area whenever another special event may conflict with an America250 event. The National Park Service Director, or designee, also may exempt America250 events from any additional requirements as necessary, including requirements in the Superintendents' Compendia, to ensure the proper planning, organizing, or executing such events.

Table 1 to Paragraph (g)(8)
Location | Requirement
Paragraph (g)(3) of this section | Limitations on the times and dates the Regional Director shall accept permit applications.
Paragraph (g)(3)(i) of this section | The prohibition on issuing permits for special events in the White House area.
Paragraph (g)(3)(ii) of this section | The prohibition on issuing permits for special events within portions of the Washington Monument, Lincoln Memorial, Jefferson Memorial, and Vietnam Veterans Memorial.
Paragraph (g)(4)(i) of this section | The requirements that the NPS process permit applications for special events in order of receipt.
Paragraph (g)(4)(i) of this section | The requirement that use of a particular area is allocated in order of receipt of fully executed special event applications.
Paragraphs (g)(4)(ii) and (iv) of this section | Priority use of particular park areas for specific national celebration events.
Paragraph (g)(4)(vi) of this section | Limitations on the maximum duration of special events.
Paragraph (g)(5)(vi) of this section | Restrictions on the purposes for using temporary structures, except for the prohibition on the use of temporary structures for living accommodation activities.
Paragraph (g)(5)(vi)(A) of this section | Prohibition on structures on the White House sidewalk.
Paragraph (g)(5)(vii) of this section | Restrictions on the use of signs or placards.
Paragraph (g)(5)(viii) of this section | Restrictions on the placement or storage of parcels, containers, packages, bundles or other property.
Paragraph (g)(5)(ix) of this section | Restrictions on the erection, placement or use of structures or signs in Lafayette Park.
Paragraph (g)(5)(x) of this section | Restrictions on the placement of stages and sound amplification equipment at the Vietnam Veterans Memorial.
Paragraph (g)(5)(xi)(A) of this section | Restrictions on the use of sound amplification equipment on the White House sidewalk.

* * * * *

Maureen Foster,
Chief of Staff, Exercising the Delegated Authority of the Assistant Secretary for Fish and Wildlife and Parks.

[FR Doc. 2025-11155 Filed 6-16-25; 8:45 am]

BILLING CODE 4312-52-P